ENVIRONMENTAL PROTECTION AGENCY

[FRL-9727-8]

Meeting of the Environmental Financial Advisory Board—Public Notice

AGENCY: Environmental Protection Agency.

ACTION: Notice of a public webinar/teleconference meeting.

SUMMARY: The United States Environmental Protection Agency's (EPA) Environmental Financial Advisory Board (EFAB) will hold a webinar/teleconference meeting on October 17, 2012. EFAB is an EPA advisory committee chartered under the Federal Advisory Committee Act (FACA) to provide advice and recommendations to EPA on creative approaches to funding environmental programs, projects, and activities.

The purpose of this meeting is to hear from informed speakers on environmental finance issues, proposed legislation, and EPA priorities; to discuss activities and progress with regard to current EFAB work projects; and to consider recent requests for assistance from EPA offices. Environmental finance discussions are expected on the following topics: Clean air technology; tribal environmental programs; transit-oriented development in sustainable communities, energy efficiency/green house gas emissions reduction; drinking water pricing and infrastructure investment; and green infrastructure.

DATES: The webinar meeting will be held on Wednesday, October 17, 2012 from 10 a.m. to 5 p.m., Eastern Time.

ADDRESSES: The webinar/teleconference meeting will be available to the public via Adobe Connect access. Members of the public who wish to participate in the meeting should register at http://www.epa.gov/envirofinance/efabmeeting by no later than Monday, October 8, 2012. Registrants will receive a confirmation notice and the information required to access the meeting.

FOR FURTHER INFORMATION CONTACT: For information on access or services for individuals with disabilities, or to request accommodations for a person with a disability, please contact Sandra Williams, U.S. EPA, at (202) 564-4999 or williams.sandra@epa.gov, at least 10 days prior to the meeting, to allow as much time as possible to process your request.

Joseph L. Dillon,
Director, Center for Environmental Finance.

[FR Doc. 2012-22760 Filed 9-13-12; 8:45 am]

BILLING CODE 6560-50-P